DEPARTMENT OF AGRICULTURE

Agricultural Research Service

Notice for Comment on Two Strategic Plans for the Subcommittee on Aquaculture Science Planning and Regulatory Efficiency Task Forces and on Updating the National Aquaculture Development Plan

AGENCY: Agricultural Research Service, USDA.

ACTION: Notice and request for comments.

SUMMARY: The Subcommittee on Aquaculture (SCA) is a statutory subcommittee that operates under the Committee on Environment of the National Science and Technology Council (NSTC) under the Office of Science and Technology Policy in the Executive Office of the President [National Aquaculture Act of 1980 (Pub. L. 96-362. 94 Stat. 1198, 16 U.S.C. 2801, et seq.) and the National Aquaculture Improvement Act of 1985 (Pub. L. 99-198, 99 Stat. 1641)]. In October 2018, the SCA established a Science Planning Task Force charged with documenting Federal science and technology opportunities and priorities for aquaculture by revising and updating the National Strategic Plan for Federal Aquaculture Research (2014-2019). Similarly, in February 2019, the SCA established a Regulatory Efficiency Task Force charged with developing a new plan for interagency science and technology coordination to improve regulatory efficiency, research and technology development, and economic growth. The Task Forces are seeking public comment on Science and Regulatory Efficiency strategic plans to determine if their respective topics are adequately covered. In addition, in May of 2020, the SCA established an Economic Development Task Force charged with developing a strategic plan for economic development through aquaculture. Separately from SCA, the National Aquaculture Act of 1980 requires select federal agencies to develop a National Aquaculture Development Plan (NADP). Last completed in 1983, the NADP describes aquaculture associated technologies, problems, and opportunities in the United States and its territories. It recommends actions to solve problems and analyzes the social, environmental, and economic impacts of growth in aquaculture. The SCA plans to update the NADP using the Science and Regulatory Efficiency plans described here, with the addition of the Economic Development plan currently in process.

DATES: Comments must be received by September 10th, 2021 to be assured of consideration.

ADDRESSES: Address all comments concerning the Science Plan to Task Force Chair Dr. Caird Rexroad, National Program Leader for Aquaculture, Agricultural Research Service, Office of National Programs, 5601 Sunnyside Avenue, Room 4-2106, Beltsville, Maryland 20705. Submit electronic comments to AquaSciencePlan@usda.gov. Address all comments concerning the Regulatory Efficiency Plan and the National Aquaculture Development Plan to Task Force Chair Kristine Cherry, Chief, Regulatory and Policy Branch at NOAA Fisheries Office of Aquaculture, NOAA National Marine Fisheries Service, 1315 East-West Highway, Room 14461, Silver Spring, MD 20910-3282. Submit electronic comments to Aqua.RegPlan@noaa.gov.

FOR FURTHER INFORMATION CONTACT: National Program Leader, Agricultural Research Service, U.S. Department of Agriculture, Dr. Caird Rexroad, Voice: (304) 620-5234, Fax: 301-504-4873, Email: Caird.RexroadIII@usda.gov.

SUPPLEMENTARY INFORMATION:

Type of Request: Seeking comments on the National Strategic Plan for Aquaculture Research (2021-2025) and the Strategic Plan to Improve Aquaculture Regulatory Efficiency to determine if national aquaculture science and technology priorities and opportunities to improve regulatory efficiencies are adequately represented.

Abstract: The Subcommittee on Aquaculture (SCA) is a statutory subcommittee that operates under the Committee on Environment of the National Science and Technology Council (NSTC) under the Office of Science and Technology Policy in the Executive Office of the President [National Aquaculture Act of 1980 (Pub. L. 96-362. 94 Stat. 1198, 16 U.S.C. 2801, et seq.) and the National Aquaculture Improvement Act of 1985 (Pub. L. 99-198, 99 Stat. 1641)]. In October 2018, the SCA established a Science Planning Task Force charged with documenting Federal science and technology opportunities and priorities for aquaculture by revising and updating the National Strategic Plan for Federal Aquaculture Research (2014-2019). This Task Force included federal employees from the Department of Agriculture, Department of Commerce, Agency for International Development, Department of Health and Human Services, Department of the Interior, Department of Energy, the Environmental Protection Agency, and the National Science Foundation. The Plan was drafted with the following goals:

Goal 1. Develop Economic Growth through Aquaculture;

Goal 2. Improve Aquaculture Production Technologies and Inform Decision Making; and

Goal 3. Uphold Animal Well-Being, Product Safety and Nutritional Value.

The National Strategic Plan for Federal Aquaculture Research (2014-2019) was developed to serve as a roadmap for implementing targeted strategic goals to advance domestic aquaculture by describing ways that government can help advance and expand domestic interests in aquaculture, and therefore, providing greater economic and recreational opportunities in the United States. The plan identified Federal resources in research and extension, the need for the best research to inform public policy and regulatory decisions, and the need for improved public understanding of aquaculture, its diversity, and potential benefits and risks. The 2021 update of this document retains these objectives and will serve to communicate federal aquaculture science priorities to the public.

The Science Planning Task Force updated the 2014-2019 Plan and is seeking public comment to determine if Federal aquaculture research opportunities and priorities are adequately reflected in the Plan. The Plan in its entirety is available at: https://www.ars.usda.gov/SCA/taskforce.html.

Similarly, in February 2019, the SCA established a Regulatory Efficiency Task Force charged with developing a new plan for interagency science and technology coordination to improve regulatory efficiency, research and technology development, and economic growth. This Task Force included federal employees from the Department of Agriculture, Department of Commerce, Department of Health and Human Services, Department of the Interior, Department of Energy, the Environmental Protection Agency, and the Army Corps of Engineers. The Strategic Plan to Enhance Regulatory Efficiency in Aquaculture was drafted with the following goals:

Goal 1. Improve Efficiencies in Aquaculture Permitting and Authorization Programs;

Goal 2. Implement a National Approach to Aquatic Animal Health Management of Aquaculture; and

Goal 3. Refine and Disseminate Tools for Aquaculture Regulatory Management.

The Regulatory Efficiency Task Force developed these new plans and is seeking public comment to determine if opportunities to improve Federal regulatory efficiencies are adequately reflected in the Plan. The Plan in its entirety is available at: https://www.ars.usda.gov/SCA/taskforce.html.

The NAA of 1980 requires, in revising the Plan, that the Secretary of Agriculture consult with the Secretary of Commerce and the Secretary of the Interior, other appropriate Federal officers, States, regional fishery management councils established under [the Magnuson-Stevens Act], and representatives of the aquaculture industry. In addition, the Act requires the Secretary of Agriculture to give interested persons and organizations an opportunity to comment during the development of the Plan. The NADP is required to include all the elements listed in National Aquaculture Act of 1980; and additionally, identify legal/regulatory constraints and solutions, specifically use rights. The main elements of the NADP are described in § 2303(b)(1) through (6) of the National Aquaculture Act of 1980.

The SCA believes that much of the required content of the NADP was developed either within the former JSA, the current SCA, or individually by agencies throughout the 37 years the plan has been in effect. As described in this notice, significant efforts are underway to develop strategic plans on science and regulatory efficiency. Additional work is being done by the SCA to develop similar analyses for economic development through aquaculture. The SCA concluded that the effort to begin updating the NADP should only begin once the SCA has concluded their work on public engagement and publishing of the strategic plans. It is expected that these plans will include updates of a significant number of the elements in the NADP.

All comments received will become a matter of public record.

Simon Y. Liu,
Acting Administrator, ARS.

[FR Doc. 2021-16711 Filed 8-4-21; 8:45 am]

BILLING CODE 3410-03-P